DEPARTMENT OF AGRICULTURE

Food Safety and Inspection Service

9 CFR Part 312

Official Marks, Devices and Certificates

CFR Correction

In Title 9 of the Code of Federal Regulations, part 200 to end, revised as of January 1, 2006, the illustration on page 144 contained in § 312.8(a), should be interchanged with the illustration on page 145 contained in § 312.10.

[FR Doc. 06-55508 Filed 3-9-06; 8:45 am]

BILLING CODE 1505-01-D